DEPARTMENT OF ENERGY

Federal Energy Regulatory Commission

[Project No. 2305-020]

Sabine River Authority of Texas; Sabine River Authority, State of Louisiana; Notice of Dispute Resolution Panel Meeting and Technical Conference

September 24, 2009.

On September 15, 2009, Commission staff, in response to the filing of a notice of study dispute by the U.S. Department of Agriculture (Forest Service) on August 26, 2009, convened a single three-person Dispute Resolution Panel pursuant to 18 CFR 5.14(d).

The Panel will hold a technical conference at the time and place noted below. The session will address study disputes regarding terrestrial special status species, cultural resources, non-native invasive plant species (noxious weeds), land use, and soil erosion. The focus of the technical session is for the disputing agencies, applicants, and Commission to provide the Panel with additional information necessary to evaluate the disputed studies. All local, State, and Federal agencies, Indian tribes, and other interested parties are invited to attend the meeting as observers. The Panel also may request information or clarification on written submissions, as necessary, to understand the matters in dispute. The Panel will limit all input that it receives to the specific studies or information in dispute and will focus on the applicability of such studies or information to the study criteria stipulated in 18 CFR 5.9(b). If the number of participants wishing to speak creates time constraints, the Panel may, at their discretion, limit the speaking time for each participant.

If you have any questions, please contact Emily Carter at (202) 502-6512.

Technical Conference

Date: Tuesday, October 6, 2009.

Time: 9 a.m.-5 p.m. (CDT).

Place: Hilton Garden Inn-Houston/Bush Intercontinental Airport, 15400 John F. Kennedy Boulevard, Houston, Texas 77032.

Phone: 281-449-4148.

Kimberly D. Bose,
Secretary.

[FR Doc. E9-23656 Filed 9-30-09; 8:45 am]

BILLING CODE 6717-01-P